DEPARTMENT OF DEFENSE

Office of the Secretary

[Docket ID DoD-2014-OS-0048]

Privacy Act of 1974; System of Records

AGENCY: Office of the Secretary of Defense, DoD.

ACTION: Notice to delete a System of Records Notice.

SUMMARY: The Office of the Secretary of Defense is deleting a system of records notice in its existing inventory of record systems subject to the Privacy Act of 1974, as amended. The notice is DFMP 24, Joint Service Review Activity File (JSRA) (February 22, 1993, 58 FR 10227).

DATES: Comments will be accepted on or before May 9, 2014. This proposed action will be effective on the date following the end of the comment period unless comments are received which result in a contrary determination.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Cindy Allard at (571) 372-0461.

SUPPLEMENTARY INFORMATION: The Office of the Secretary of Defense systems of records notices subject to the Privacy Act of 1974 (5 U.S.C. 552a), as amended, have been published in the Federal Register and are available from the address in FOR FURTHER INFORMATION CONTACT or at the Defense Privacy and Civil Liberties Web site at http://dpclo.defense.gov/.

The proposed deletion is not within the purview of subsection (r) of the Privacy Act of 1974 (5 U.S.C. 552a), as amended, which requires the submission of a new or altered system report.

Dated: April 4, 2014.
Aaron Siegel,
Alternate OSD Federal Register Liaison Officer, Department of Defense.

Deletion:

DFMP 24

Joint Service Review Activity File (JSRA) (February 22, 1993, 58 FR 10227).

Reason:

It has been determined that the “Joint Service Review Activity Files” are accessed and maintained via the “Military Departments Board for Correction of Military Records information systems.”

The applicable systems of records notices for the Military Departments are as follows:

Department of the Army—A0015-185 SFMR, Correction of Military Records Cases (July 6, 2011, 76 FR 39392).

Department of the Navy—NM01000-1, Board for Correction of Naval Records Tracking System (BCNRTS) and Case Files (January 31, 2008, 73 FR 5828).

Department of the Air Force -

F036 SAFCB A, Air Force Correction Board Records (November 12, 2008, 73 FR 66870).

F036 ARPC C, Correction of Military Records of Officers and Airmen (June 11, 1997, 62 FR 31793).

Since these records are maintained under the cognizance of the Military Departments with published systems of records notices, the JSRA system of records notice is no longer required and is being deleted.

[FR Doc. 2014-07920 Filed 4-8-14; 8:45 am]

BILLING CODE 5001-06-P